DEPARTMENT OF STATE

48 CFR Part 633

[Public Notice: 9539]

RIN 1400-AD92

Department of State Acquisition Regulation; Technical Amendments; Correction

AGENCY: Department of State.

ACTION: Correcting amendment.

SUMMARY: The Department of State published in the Federal Register of April 27, 2016 a rule amending the Department of State Acquisition Regulation (DOSAR) to make non-substantive corrections and editorial changes. It mistakenly added a section heading as a subpart heading. This document corrects that error.

DATES: Effective May 27, 2016.

FOR FURTHER INFORMATION CONTACT: Ms. Colleen Kosar, Policy Division, Office of the Procurement Executive, A/OPE, 2201 C Street NW., Suite 1060, State Annex Number 15, Washington, DC 20520. Telephone: 703-516-1685. Email: KosarCM@state.gov.

SUPPLEMENTARY INFORMATION: In rule FR Doc. 2016-09570 published on April 27, 2016 (81 FR 24706), in instruction 12 on page 24707, section 633.214 was inadvertently added as a subpart. This correcting amendment removes the subpart heading for 633.214 and adds a section heading for 633.214.

List of Subjects in 48 CFR Part 633

Administrative practice and procedure, Government procurement.

For the reasons stated in the preamble, the Department of State corrects 48 CFR chapter 6 by making the following correcting amendments:

PART 633—PROTESTS, DISPUTES, AND APPEALS

1. The authority citation for 48 CFR part 633 continues to read as follows:

Authority: 22 U.S.C. 2651a, 40 U.S.C. 121(c) and 48 CFR chapter 1.

Subpart 633.214—[Amended]

2. Remove the subpart heading for 633.214.

3. Add a section heading for 633.214 to read as follows:

633.214 Alternative dispute resolution (ADR).

Dated: May 19, 2016.
Corey M. Rindner,
Procurement Executive, Department of State.

[FR Doc. 2016-12355 Filed 5-26-16; 8:45 am]

BILLING CODE 4710-24-P